NATIONAL SCIENCE FOUNDATION

National Science Board; Sunshine Act Meetings; Notice

The National Science Board's Ad Hoc Committee on Honorary Awards, pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

Date and Time: November 23, 2010, 3:30 p.m.-4:30 p.m.

Subject Matter: Review and discussion of selection criteria, discussion of candidates for the 2010 Vannevar Bush Award, and discussion of candidates for the 2010 National Science Board Public Service Awards.

Status: Closed.

Location: This meeting will be held at National Science Foundation, 4201 Wilson Blvd., Arlington, VA 22230.

Updates & Point of Contact: Please refer to the National Science Board Web site http://www.nsf.gov/nsb for additional information and schedule updates (time, place, subject matter or status of meeting) may be found at http://www.nsf.gov/nsb/notices/. Point of contact for this meeting is Jennie L. Moehlmann, National Science Board Office, 4201Wilson Blvd., Arlington, VA 22230. Telephone: (703) 292-7000.

Daniel A. Lauretano,
Counsel to the National Science Board.

[FR Doc. 2010-29092 Filed 11-15-10; 4:15 pm]

BILLING CODE 7555-01-P